DEPARTMENT OF ENERGY

Federal Energy Regulatory Commission

[Docket No. AD24-7-000]

Federal and State Current Issues Collaborative; Notice Announcing Meeting

On March 21, 2024, the Commission established a Federal and State Current Issues Collaborative (Collaborative) to explore cross-jurisdictional issues relevant to FERC and state utility commissions.¹

¹ Fed. and State Current Issues Collaborative, 186 FERC ¶ 61,189 (2024) (Establishing Order).

The first public meeting of the Collaborative will be held on November 12, 2024, from approximately 2:30 p.m.-5 p.m. PST, at the Anaheim Marriott in Anaheim, California. The meeting will be open to the public for listening and observing and on the record. There is no fee for attendance and registration is not required. The public may also attend via Webcast. This conference will be transcribed. Transcripts will be available for a fee from Ace Reporting, 202-347-3700.

Commission conferences are accessible under section 508 of the Rehabilitation Act of 1973. For accessibility accommodations, please send an email to accessibility@ferc.gov or call toll free 1-866-208-3372 (voice) or 202-208-8659 (TTY), or send a fax to 202-208-2106 with the required accommodations.

The first overarching topic the Collaborative will discuss is gas-electric coordination. As explained in the Establishing Order, the Commission will issue agendas for each meeting, after consulting with members of the Collaborative and considering suggestions from state commissions.² The Commission will issue the specific agenda for the first public meeting no later than October 29, 2024.

² Id. P 7.

More information about the Collaborative is available here: https://www.ferc.gov/federal-state-current-issues-collaborative. For questions related to the Collaborative, please contact: Rob Thormeyer, 202-502-8694, robert.thormeyer@ferc.gov, Sarah Greenberg, 202-502-6230, sarah.greenberg@ferc.gov, or Robert Cain, 202-898-1350, rcain@naruc.org.

Dated: September 17, 2024.
Debbie-Anne A. Reese,
Acting Secretary.

[FR Doc. 2024-21727 Filed 9-23-24; 8:45 am]

BILLING CODE 6717-01-P